DEPARTMENT OF TRANSPORTATION

National Highway Traffic Safety Administration

49 CFR Part 571

[Docket No. NHTSA-2023-0021]

RIN 2127-AM37

Federal Motor Vehicle Safety Standards; Automatic Emergency Braking Systems for Light Vehicles; Correction

AGENCY: National Highway Traffic Safety Administration (NHTSA), Department of Transportation (DOT).

ACTION: Final rule; response to petitions for reconsideration; correction.

SUMMARY: This document corrects a November 26, 2024 final rule partially granting petitions for reconsideration of a May 9, 2024, final rule that adopted Federal Motor Vehicle Safety Standard (FMVSS) No. 127, “Automatic Emergency Braking for Light Vehicles,” which requires automatic emergency braking (AEB), pedestrian automatic emergency braking (PAEB), and forward collision warning (FCW) systems on all new light vehicles. This document corrects a typographical error in the amendatory instructions.

DATES: Effective January 27, 2025.

ADDRESSES: Correspondence related to this rule should refer to the docket number set forth above (NHTSA-2023-0021) and be submitted to the Administrator, National Highway Traffic Safety Administration, 1200 New Jersey Avenue SE, Washington, DC 20590.

FOR FURTHER INFORMATION CONTACT: For technical issues: Mr. Markus Price, Office of Crash Avoidance Standards, Telephone: (202) 366-1810, Facsimile: (202) 366-7002. For legal issues: Mr. Eli Wachtel, Office of the Chief Counsel, Telephone: (202) 366-2992, Facsimile: (202) 366-3820. The mailing address for these officials is: National Highway Traffic Safety Administration, 1200 New Jersey Avenue SE, Washington, DC 20590.

SUPPLEMENTARY INFORMATION: In FR Doc. 2024-27349 appearing on page 93199 in the Federal Register of Tuesday, November 26, 2024, the following correction is made:

§ 571.127 [Corrected]

On page 93220, in the first column, in part 571, in amendment 2.b, the instruction “Revising S5.1.1(a)(3) and (4), S5.1.1(b)(2), S5.1.3, and S8.3.3(g).” is corrected to read “Revising S5.1.1(a)(3) and (4), S5.1.1(b)(1), S5.1.3, and S8.3.3(g).”.

Issued in Washington, DC, under authority delegated in 49 CFR 1.95 and 501.8.
Raymond R. Posten,
Associate Administrator, Rulemaking.

[FR Doc. 2024-28998 Filed 12-10-24; 8:45 am]

BILLING CODE P